FEDERAL COMMUNICATIONS COMMISSION

Sunshine Act Meeting; Deletion of Agenda Item From September 26, 2013 Open Meeting

Date: September 25, 2013.

The following item has been adopted by the Commission and deleted from the list of Agenda items scheduled for consideration at the Thursday, September 26, 2013, Open Meeting and previously listed in the Commission's Notice of September 19, 2013.

Item No. | Bureau | Subject
3 | MEDIA | TITLE: BLOOMBERG L.P. Complainant v. COMCAST CABLE COMMUNICATIONS LLC Defendant (MB Docket No. 11-104) SUMMARY: The Commission will consider a Memorandum Opinion and Order to resolve a complaint by Bloomberg L.P. that Comcast Cable communications, LLC violated the news neighborhooding condition of the Comcast/NBCU transaction.

Federal Communications Commission.
Marlene H. Dortch,
Secretary, Office of the Secretary, Office of Managing Director.

[FR Doc. 2013-23931 Filed 9-26-13; 4:15 pm]

BILLING CODE 6712-01-P